DEPARTMENT OF THE INTERIOR

Bureau of Land Management

[LLUT0300000 L17110000DF0000]

Notice of Reestablishment of the Grand Staircase-Escalante National Monument Advisory Committee

AGENCY: Bureau of Land Management, Interior.

ACTION: Notice.

SUMMARY: This notice is published in accordance with section 9(a)(2) of the Federal Advisory Committee Act of 1972. Notice is hereby given that the Secretary of the Interior (Secretary) has reestablished the Bureau of Land Management's (BLM) Grand Staircase-Escalante National Monument Advisory Committee (Committee).

FOR FURTHER INFORMATION CONTACT: Allison Sandoval, Legislative Affairs and Correspondence (600), Bureau of Land Management, 1620 L Street, NW., MS-LS-401, Washington, DC 20036, telephone (202) 912-7434.

SUPPLEMENTARY INFORMATION: The purpose of the Committee is to advise the Monument managers on science and management issues and on the achievement of objectives set forth in the Grand Staircase-Escalante National Monument Management Plan.

CERTIFICATION STATEMENT: I hereby certify that the reestablishment of the Grand Staircase-Escalante National Monument Advisory Committee is necessary and in the public interest in connection with the Secretary's responsibilities to manage the lands, resources, and facilities administered by the BLM.

Dated: January 21, 2010.
Ken Salazar,
Secretary of the Interior.

[FR Doc. 2010-1621 Filed 1-26-10; 8:45 am]

BILLING CODE 4310-DQ-P